DEPARTMENT OF COMMERCE

Foreign-Trade Zones Board

[A(32c)-12-02]

Notification of New Grantee Foreign-Trade Zone 138 Franklin County, OH

The Foreign-Trade Zones (FTZ) Board (the Board) has considered the documentation indicating that the Columbus Municipal Airport Authority (CMAA) was reorganized to include the Rickenbacker Port Authority (RPA). Upon review, we concur with the findings that the CMAA is the legal successor to RPA and we recognize the CMAA as grantee of FTZ 138 as of January 1, 2003.

Dated: January 22, 2003.
Dennis Puccinelli,
Executive Secretary.

[FR Doc. 03-2105 Filed 1-29-03; 8:45 am]

BILLING CODE 3510-DS-P